ENVIRONMENTAL PROTECTION AGENCY

[FRL-9160-5]

Science Advisory Board Staff Office; Notification of a Public Meeting of the Clean Air Scientific Advisory Committee (CASAC) Particulate Matter Review Panel

AGENCY: Environmental Protection Agency (EPA).

ACTION: Notice.

SUMMARY: The Environmental Protection Agency (EPA) Science Advisory Board (SAB) Staff Office announces a public meeting on July 26-27, 2010 of the Clean Air Scientific Advisory Particulate Matter Review Panel (Panel) to review EPA's forthcoming Policy Assessment for the Review of Particulate Matter National Ambient Air Quality Standards— Second External Review Draft (June 2010).

DATES: The meeting will be held on July 26, 2010 from 9 a.m. to 5 p.m. (Eastern Time) and July 27, 2010 from 8:30 a.m. to 12 p.m. (Eastern Time).

ADDRESSES: The meeting will be held at the Marriott at Research Triangle Park, 4700 Guardian Drive, Durham, NC 27703, telephone (919) 941-6200.

FOR FURTHER INFORMATION CONTACT: Any member of the public who wants further information concerning the public meeting may contact Dr. Holly Stallworth, Designated Federal Officer (DFO), EPA Science Advisory Board (1400F), U.S. Environmental Protection Agency, 1200 Pennsylvania Avenue, NW., Washington, DC 20460; via telephone/voice mail (202) 343-9867; fax (202) 233-0643; or e-mail at stallworth.holly@epa.gov. General information concerning the CASAC can be found on the EPA Web site at http://www.epa.gov/casac.

SUPPLEMENTARY INFORMATION: Background: The Clean Air Scientific Advisory Committee (CASAC) was established under section 109(d)(2) of the Clean Air Act (CAA or Act) (42 U.S.C. 7409) as an independent scientific advisory committee. CASAC provides advice, information and recommendations on the scientific and technical aspects of air quality criteria and national ambient air quality standards (NAAQS) under sections 108 and 109 of the Act. The CASAC is a Federal advisory committee chartered under the Federal Advisory Committee Act (FACA), as amended, 5 U.S.C., App 2. The Panel will comply with the provisions of FACA and all appropriate SAB Staff Office procedural policies.

Section 109(d)(1) of the CAA requires that the Agency periodically review and revise, as appropriate, the air quality criteria and the NAAQS for the six “criteria” air pollutants, including particulate matter (PM). EPA conducts scientific and policy assessments related to both primary (health-based) and secondary (welfare-based) standards for each of these pollutants. As part of that process, the CASAC Particulate Matter Review Panel has been reviewing a series of EPA's assessments that provide the basis for EPA rulemaking on particulate matter.

At the July 26-27, 2010 meeting, the CASAC Particulate Matter Review Panel will review EPA's forthcoming Policy Assessment for the Review of the Particulate Matter National Ambient Air Quality Standards—Second External Review Draft (June 2010). EPA's Office of Air and Radiation's Office of Air Quality Planning and Standards (OAQPS) requested CASAC's review of this draft document as part of its review of the PM NAAQS. The second draft Policy Assessment includes consideration of CASAC and public comments on the first draft Policy Assessment (March 2010) as well as additional analyses conducted by OAQPS. This draft document builds upon the key scientific and technical information contained in the Agency's Integrated Science Assessment (ISA) for Particulate Matter: Final Report (December 2009) as well as the two forthcoming final assessment documents titled Particulate Matter Urban-Focused Visibility Assessment: Final Report (June 2010) and Quantitative Health Risk Assessment for Particulate Matter: Final Report (June 2010).

Background information about the formation of the CASAC Particulate Matter Review Panel was published in the Federal Register on March 8, 2007 (72 FR 10527-10528). The Panel previously held a public teleconference on November 30, 2007 (announced November 8, 2007 in 72 FR 63177-63178) to provide consultative advice on EPA's Draft Integrated Review Plan for the National Ambient Air Quality Standards for Particulate Matter (October 2007), the first document in this review of the PM NAAQS.

On April 1-2, 2009, CASAC reviewed the Integrated Science Assessment for Particulate Matter—First External Review Draft (December 2008), and provided consultative advice on Particulate Matter National Ambient Air Quality Standards: Scope and Methods Plan for Health Risk and Exposure Assessment (February 2009) and Particulate Matter National Ambient Air Quality Standards: Scope and Methods Plan for Urban Visibility Impact Assessment (February 2009). The April 1-2, 2009 meeting was announced February 19, 2009 in 74 FR 7688-7689. As announced September 10, 2009 in 74 FR 46586-46587, on October 5-6, 2009, CASAC reviewed the Integrated Science Assessment for Particulate Matter—Second External Review Draft (July 2009) and Particulate Matter Urban Focused Visibility Assessment—External Review Draft (September 2009) and Risk Assessment to Support the Review of the PM Primary National Ambient Air Quality Standards—External Review Draft (September 2009). In addition, this meeting included a discussion with CASAC of an EPA/OAQPS document titled Policy Assessment for the Review of the Particulate Matter National Ambient Air Quality Standards: Preliminary Draft (September 2009) on the nature of the policy assessment document including the overall structure, areas of focus, and level of detail. As announced February 23, 2010 in 75 FR 8062-8063, the CASAC Particulate Matter Review Panel reviewed second drafts of the health risk and visibility assessment documents on March 10-11, 2010. The Panel also held teleconferences (announced February 23, 2010 and April 16, 2010 in 75 FR 8062-8063 and 75 FR 19971) on April 8-9, 2010 and May 7, 2010, respectively, to review the first external review draft Policy Assessment.

Technical Contacts: Any questions concerning Policy Assessment for the Review of Particulate Matter National Ambient Air Quality Standards—Second External Review Draft (June 2010) should be directed to Ms. Beth Hassett-Sipple, OAR, at hassett-sipple.beth@epa.gov or (919) 541-4605.

Availability of Meeting Materials: All meeting materials (agenda, charge questions, preliminary comments and other materials) for the July 26-27, 2010 meeting will be placed on the CASAC Web site on the Web pages for those public meetings, accessible through the calendar link on the blue navigational bar at http://www.epa.gov/casac. The Policy Assessment for the Review of Particulate Matter National Ambient Air Quality Standards—Second External Review Draft (June 2010) will be available on or about June 30, 2010 at http://www.epa.gov/ttn/naaqs/standards/pm/s_pm_2007_pa.html.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a federal advisory committee to consider as it develops advice for EPA. They should send their comments directly to the Designated Federal Officer for the relevant advisory committee. Oral Statements: In general, individuals or groups requesting an oral presentation at a public meeting will be limited to five minutes per speaker. To be placed on the public speaker list for the July 26-27, 2010 meeting, interested parties should notify Dr. Holly Stallworth, DFO, by e-mail no later than July 20, 2010. Individuals making oral statements will be limited to five minutes per speaker. Written Statements: Written statements for the July 26-27, 2010 meeting should be received in the SAB Staff Office by July 20, 2010, so that the information may be made available to the CASAC Panel for its consideration prior to this meeting. Written statements should be supplied to the DFO in the following formats: One hard copy with original signature and one electronic copy via e-mail (acceptable file format: Adobe Acrobat PDF, MS Word, WordPerfect, MS PowerPoint, or Rich Text files in IBM-PC/Windows 98/2000/XP format). Submitters are asked to provide versions of each document submitted with and without signatures, because the SAB Staff Office does not publish documents with signatures on its Web sites.

Accessibility: For information on access or services for individuals with disabilities, please contact Dr. Stallworth at the phone number or e-mail address noted above, preferably at least ten days prior to the meeting to give EPA as much time as possible to process your request.

Dated: May 28, 2010.
Anthony F. Maciorowski,
Deputy Director, EPA Science Advisory Board Staff Office.

[FR Doc. 2010-13855 Filed 6-8-10; 8:45 am]

BILLING CODE 6560-50-P